DEPARTMENT OF AGRICULTURE

Economic Research Service

Notice of Intent to Seek Approval to Collect Information

AGENCY: Economic Research Service, USDA.

ACTION: Notice and request for comments.

SUMMARY: In accordance with the Paperwork Reduction Act of 1995 (Pub. L. 104-13) and Office of Management and Budget (OMB) regulations at 5 CFR Part 1320 (60 FR 44978, August 29, 1995), this notice announces the Economic Research Service's intention to request approval for a new information collection from School Food Authorities (SFAs) and state and county welfare and food stamp agencies. The study will collect information on the National School Lunch Program (NSLP) and direct certification for free school meals from SFA directors or other key staff and administrative records data from state and county welfare and food stamp agencies.

DATES: Comments on this notice must be received by July 27, 2001 to be assured of consideration.

ADDRESSES: Address all comments concerning this notice to Joshua Winicki, Food Assistance and Rural Economy Branch, Food and Rural Economics Division, Economic Research Service, U.S. Department of Agriculture, 1800 M Street, NW., Room S-2091, Washington, DC 20036-5831, 202-694-5448. Submit electronic comments to jwinicki@ers.usda.gov.

SUPPLEMENTARY INFORMATION: Title: Direct Certification and Its Impact on Errors in the National School Lunch Program.

OMB Number: Not yet assigned.

Expiration Date: N/A.

Type of Request: Approval for new data collection from School Food Authorities and state and county welfare and food stamp agencies.

Abstract: ERS needs to learn more about the influence of direct certification on three objectives of USDA's provision of benefits under the NSLP: (1) Providing free or reduced-price meals to intended recipients while not providing them to children who do not qualify; (2) keeping down the costs of gathering and processing data to administer the program, and (3) ensuring ease of access to program benefits for the intended recipients. Direct certification was designed to address the second and third of these objectives, by improving access to the program and streamlining the administrative process. However, emphasizing these objectives could compromise the first objective by directing benefits to some students who do not qualify for them. The Study of Direct Certification will contribute new information to USDA as it reexamines the appropriate balance among these goals.

The last study of direct certification was based on data from 1996. However, the 1996 study collected no information on the verification process, by which school districts determine the rate at which students are certified for free meals in error. Thus, the previous study could not assess the degree to which the NSLP provides meals to intended recipients while not providing them to children who do not qualify.

Furthermore, two recent trends have made the need for up-to-date information on direct certification even more pressing. First, the policy of direct certification was first introduced in the early 1990s and is believed to have expanded rapidly since that time. Thus, information on the prevalence of direct certification collected in 1996 may no longer be accurate. Second, there is evidence that the number of children certified in error has grown in recent years. Data from the Current Population Survey indicate that the number of children receiving free meals exceeds the number of children identified as income eligible to qualify for free meals, and that this ratio has been growing. In 1993, the number of children estimated to be receiving free lunches was about equal to the number estimated to be income-eligible for this benefit. By 1997, the number of certified children was 118 percent of the number of income-eligible children.

The Study of Direct Certification is being undertaken at this time for greater understanding of how direct certification works and how it affects both certification to receive free and reduced-price meals and the actual receipt of these benefits. The study will also gauge the levels of error in the program and the impacts of direct certification on these error rates. In particular, the study will have three primary objectives:

• Estimate the prevalence of direct certification and the different methods used to implement it.

• Measure the incidence of errors in certification for free and reduced-price meals.

• Estimate the impacts of direct certification on rates of certification, participation, and certification errors.

The main data source to be used to address these will be a survey of School Food Authorities operating in public school districts within the 50 states and the District of Columbia. This survey will be conducted in the winter and spring of early 2002. Supplemental administrative data will be collected from state and county welfare and food stamp agencies.

The sample frame of public school districts for the SFA survey will be the list of local education agencies (school districts) obtained from the National Center for Education Statistics (NCES) Common Core of Data (CCD): Local Education Agency Universe, 1998-1999 (or 1999-2000, if available). A sample of 1,547 public school districts will be selected to obtain approximately 1,200 SFA interviews. This sample will be nationally representative and selected with probability proportional to size, with the measure of size being the square root of the number of low-income children enrolled in the district.

Before conducting the survey, advance letters will be sent to the Chief State School Offices in the states in which sampled districts are located, as well as to the states' representatives to the Education Information Advisory Committee (EIAC) and the districts' superintendents. Next, advance letters will be sent to the SFA directors, along with a fact sheet for them to complete prior to the survey to facilitate the process of conducting the interview. The interviews with approximately 1,200 SFAs will be conducted by telephone, using computer-assisted telephone interviewing (CATI).

Respondent burden will be minimized for the SFA survey by using CATI methods to streamline the interviewing process, and by carefully training interviewing staff on survey procedures. To minimize the number of open-ended questions asked on the survey, responses to open-ended questions from the 1996 SFA questionnaire were examined and used to develop closed-ended questions on this questionnaire. Pretest interviewing results indicated that respondents wanted more survey items to be included on the fact sheet, thus minimizing the time to look up answers while on the telephone with the interviewer. Responses will be voluntary and confidential. To ensure confidentiality, data will be reported only in tabular form, with analysis cells large enough to prevent identification of individual agencies. The data will not be used to evaluate or assess the performance of individual school districts or of the districts within individual states. SFAs will be notified of these confidentiality assurances in their advance letters.

In addition to the SFA survey, administrative data will be collected from state and county welfare or food stamp agencies. First, the agency in each state that assists SFAs in determining the students eligible or potentially eligible for direct certification will be identified. Next, these agencies will be sent a letter informing them of the study and of the data request. Following this, the agencies will be contacted by phone and asked to provide administrative record data containing two key pieces of information for districts within their state selected for the SFA survey sample: (1) A list of students in the district who were determined to be eligible or potentially eligible for direct certification just prior to the 2001-2002 school year; and (2) a list of students in these districts who would have been eligible or potentially eligible for direct certification as of December 15, 2001.

To reduce burden on these agencies, they will be asked to provide this information in whatever form is most convenient for them. Either electronic files or hard copy lists of students will be accepted.

Estimate of Burden: For the SFA survey, burden on respondents will consist of two parts. First, they will have to complete the fact sheet in preparation for the interview. This will take about 90 minutes (1.5 hours) depending on district size and level of computerization. Second, they will have to take the time to complete the interview. This takes 30 minutes (.5 hours). For the administrative-records data collection from state or county welfare and food stamp agencies, a 4 hour burden for the respondent is estimated. We anticipate 75 entities will supply this information (49 states, Washington DC, and 25 California counties).

Respondents: Key staff members of SFAs representing public school districts in the 50 states and the District of Columbia; officials designated by the state or county welfare or food stamp office as the most appropriate to supply the files.

Estimated Number of Respondents: 1,275 in total; including 1,200 SFAs, and 75 state or county welfare or food stamp offices.

Estimated Total Annual Burden on Respondents: 2,700 hours total.

Comments

Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who are to respond, including the use of appropriate automated, electronic, mechanical, or other technology. Comments should be sent to the address in the preamble. All responses to this notice will be summarized and included in the request for Office of Management and Budget (OMB) approval. All comments will also become a matter of public record.

Dated: April 17, 2001.
Susan E. Offutt,
Administrator, Economic Research Service.

[FR Doc. 01-12845 Filed 5-21-01; 8:45 am]

BILLING CODE 3410-18-P